DEPARTMENT OF COMMERCE

International Trade Administration

[A-570-831]

Fresh Garlic from the People's Republic of China: Extension of Time Limits for the Final Results of the 11th Administrative Review and New Shipper Reviews

AGENCY: Import Administration, International Trade Administration, Department of Commerce.

EFFECTIVE DATE: March 30, 2007.

FOR FURTHER INFORMATION CONTACT: Paul Walker, AD/CVD Operations, Office 9, Import Administration, International Trade Administration, U.S. Department of Commerce, 14th Street and Constitution Avenue, NW, Washington DC 20230; telephone: (202) 482-0413.

SUPPLEMENTARY INFORMATION:

Background

On December 11, 2006, the Department of Commerce (“the Department”) published the preliminary results of the administrative review and new shipper review of fresh garlic from the People's Republic of China (“PRC”), covering the period November 1, 2004, through October 31, 2005. See Fresh Garlic from the People's Republic of China: Partial Rescission and Preliminary Results of the Eleventh Administrative Review and New Shipper Reviews, 71 FR 71510 (December 11, 2006).

Extension of Time Limit of Final Results

Pursuant to section 751(a)(3)(A) of the Tariff Act of 1930, as amended (“the Act”), and section 351.213(h)(1) of the Department's regulations, the Department shall issue the preliminary results of an administrative review within 245 days after the last day of the anniversary month of the date of publication of the antidumping duty order. The Act further provides that the Department shall issue the final results of a review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days. Section 751(a)(2)(B)(iv) of the Act also provides that we may extend the deadlines in a new shipper review if we determine that the case is extraordinarily complicated.

The Department determines that it would not be practicable to complete the final results of the aligned administrative review and new shipper reviews within the statutory time period. The Department requires additional time to analyze voluminous comments regarding the nine companies involved in the instant reviews. This includes several issues the Department considers to be extraordinarily complicated, including, but not limited to, the intermediate valuation of the garlic bulb. Therefore, in accordance with section 751(a)(3)(A) of the Act, the Department is extending the time period for issuing the final results of this review by 60 days until June 9, 2007. However, since June 9th falls on a Saturday, the actual due date is June 11, 2007.

This notice is published pursuant to sections 751(c)(3)(A) and 751(a)(2)(B)(iv) of the Act, and section 351.214(h)(i)(1) of the Department's Regulations.

Dated: March 19, 2007.
Stephen J. Claeys,
Deputy Assistant Secretary for Import Administration.

[FR Doc. E7-5861 Filed 3-29-07; 8:45 am]

BILLING CODE 3510-DS-S